DEPARTMENT OF HOMELAND SECURITY

Coast Guard

[USCG-2003-16814]

RIN 1625-AA89

Discharge of Dry Cargo Residues in the Great Lakes

AGENCY: Coast Guard, DHS.

ACTION: Notice.

SUMMARY: The Coast Guard gives notice that Congressional authorization of the United States 1997 interim enforcement policy relating to the incidental discharge of dry cargo residue on the Great Lakes has been extended by new legislation until 2008 or until new regulations take effect. The new legislation gives us until November 7, 2004, to begin regulatory environmental assessment. We have already opened the necessary project for developing new regulations, and intend to meet the new legislation's environmental assessment deadline.

DATES: The interim enforcement policy will continue in force until September 30, 2008, unless it is replaced by new regulations at an earlier date. The Coast Guard must begin environmental assessment in connection with new regulations by November 7, 2004.

ADDRESSES: Any comments or material received from the public in regard to this notice, as well as documents mentioned in the notice as being available in the public docket, are part of docket USCG-2003-16814 and may be viewed online at http://dms.dot.gov or at the Docket Management Facility, U.S. Department of Transportation, room PL-401, 400 Seventh Street, SW., Washington, DC between 9 a.m. and 5 p.m. Monday through Friday, except Federal holidays.

FOR FURTHER INFORMATION CONTACT: If you have questions relating to the substance of this notice call LCDR Mary Sohlberg, U.S. Coast Guard, telephone 202-267-0713 or via e-mail msohlberg@comdt.uscg.mil. If you have questions on viewing the docket, call Andrea M. Jenkins, Program Manager, Docket Operations, Department of Transportation, telephone 202-366-0271.

SUPPLEMENTARY INFORMATION: This notice is intended to update you concerning the Coast Guard's interim enforcement policy (IEP) for incidental vessel discharges of non-hazardous and non-toxic cargo residues (“dry cargo discharges”) on the Great Lakes. The IEP is set out in full in the 2004 Ninth District Special Notice to Mariners (pages 66-69) and the Ninth Coast Guard District Notice CCGD9NOTE 16460 dated January 28, 1997, which are available in the public docket (see ADDRESSES). Earlier this year, we published a notice (69 FR 1994, Jan. 13, 2004) informing you that continued Congressional authorization for the IEP was due to expire on September 30, 2004. We noted that, absent some new set of regulations, the IEP's expiration would lead to strict enforcement of the existing statutory framework, which bans dry cargo discharges on the Great Lakes. We said we would begin developing the new regulations, but cautioned that they probably could not be ready by September 2004.

On August 9, 2004, the Coast Guard and Maritime Transportation Act of 2004 Pub. L. 108-293, (“the Act”), became law. Section 623 of the Act extends the IEP until September 30, 2008, or issuance of new regulations, whichever comes first. It gives the Coast Guard 90 days from the statute's enactment, i.e., until November 7, 2004, to begin environmental assessment connected with new regulations. In July 2004, the Coast Guard approved a dry cargo discharges regulatory project, and we expect to meet the Act's deadline for beginning environmental assessment. As we reach milestones in the environmental assessment and regulatory processes, we will issue additional Federal Register notices to keep you informed and invite your participation.

Dated: September 20, 2004.
T.H. Gilmour,
Rear Admiral, U.S. Coast Guard, Assistant Commandant for Marine Safety, Security and Environmental Protection.

[FR Doc. 04-21599 Filed 9-24-04; 8:45 am]

BILLING CODE 4910-15-U